SURFACE TRANSPORTATION BOARD

[Docket No. MCF 21074]

Monarch Ventures Inc.—Acquisition of Control—Quick Coach Lines Ltd. and Vancouver Tours and Transit Ltd. D/B/A Charter Bus Lines of British Columbia

AGENCY: Surface Transportation Board.

ACTION: Notice Tentatively Approving and Authorizing Finance Transaction.

SUMMARY: On November 21, 2016, Monarch Ventures Inc. (Monarch), a noncarrier, filed an application under 49 U.S.C. 14303 for Monarch to acquire from Royal City Charter Coach Lines Ltd. (Royal), a noncarrier, control of the assets and business operations of Quick Coach Lines Ltd. (QCL) and Vancouver Tours and Transit Ltd. d/b/a Charter Bus Lines of British Columbia (VTT). The Board is tentatively approving and authorizing the transaction, and, if no opposing comments are timely filed, this notice will be the final Board action. Persons wishing to oppose the application must follow the rules at 49 CFR 1182.5 and 1182.8.

DATES: Comments must be filed by February 6, 2017. Monarch may file a reply by February 20, 2017. If no opposing comments are filed by February 6, 2017, this notice shall be effective February 7, 2017.

ADDRESSES: Send an original and 10 copies of any comments referring to Docket No. MCF 21074 to: Surface Transportation Board, 395 E Street SW., Washington, DC 20423-0001. In addition, send one copy of comments to Monarch's representative: Stephen P. Flott, Flott & Co. PC, P.O. Box 17655, Arlington, VA 22216.

FOR FURTHER INFORMATION CONTACT: Amy Ziehm (202) 245-0391. Federal Information Relay Service (FIRS) for the hearing impaired: 1-800-877-8339.

SUPPLEMENTARY INFORMATION: Monarch, a noncarrier, owns and controls 100% of Traxx Transportation Ltd. (Traxx), a passenger carrier operating in Western Canada and the Western United States (MC-215048). Royal, a noncarrier, owns and controls 100% of QCL, a passenger carrier operating between various points in southern British Columbia, Seattle, and SeaTac Airport (MC-205116). Royal also owns and controls 100% of VTT, a passenger carrier operating in western Canada, as well as the western United States (MC-108204).¹

¹ Monarch states that VTT is a passenger carrier pursuant to MC-212649. (See Appl. 3.) However, the record indicates that VTT holds a federally issued operating authority under MC-108204. (See Appl., Ex. B, VTT Company Snapshot & Ex. C, VTT Licensing & Insurance.)

Monarch states that, under the proposed transaction, QCL, VTT, and Traxx would be owned by 1997553 Alberta Ltd. (Alberta Ltd.), a noncarrier, of which Monarch would own 77.2% of the shares and Royal would own 22.8%. Monarch states that Alberta Ltd. would acquire 100% of the shares (including all of the assets, vehicles, and business operations) of QCL, VTT, and Traxx. Upon completion of the transaction, Monarch would (indirectly) control QCL and VTT and would continue to (indirectly) control Traxx through its control of Alberta Ltd. Under the transaction, Monarch states that the principals of Royal would be the principal managers of QCL, VTT, and Traxx, with the goals of increasing revenues through enhanced marketing, investment in new products, and selected strategic acquisitions and increasing profitability of all three carriers through operational improvements.

Under 49 U.S.C. 14303(b), the Board must approve and authorize a transaction that it finds consistent with the public interest, taking into consideration at least: (1) The effect of the proposed transaction on the adequacy of transportation to the public; (2) the total fixed charges that result; and (3) the interest of affected carrier employees. Monarch has submitted the information required by 49 CFR 1182.2, including information to demonstrate that the proposed transaction is consistent with the public interest under 49 U.S.C. 14303(b) and a statement that the aggregate gross operating revenues of QCL and VTT exceeded $2 million for the preceding 12-month period. See 49 U.S.C. 14303(g).²

² Applicants with gross operating revenues exceeding $2 million are required to meet the requirements of 49 CFR 1182.2(a)(5).

Monarch asserts that the transaction would have no adverse impact on the adequacy of transportation services available to the public. Monarch states that Royal's management team would continue to run the operations of QCL and VTT and that Monarch intends to continue the businesses of QCL, VTT, and Traxx essentially in the same manner in which they are now being conducted. Monarch states that the proposed transaction would have no effect on total fixed charges. Further, Monarch states that no employees would be adversely affected by the proposed transaction, as there would be no change in the day-to-day operations of QCL and VTT.

On the basis of the application, the Board finds that the proposed acquisition is consistent with the public interest and should be tentatively approved and authorized. If any opposing comments are timely filed, these findings will be deemed vacated, and, unless a final decision can be made on the record as developed, a procedural schedule will be adopted to reconsider the application. See 49 CFR 1182.6(c). If no opposing comments are filed by the expiration of the comment period, this notice will take effect automatically and will be the final Board action.

This action is categorically excluded from environmental review under 49 CFR 1105.6(c).

Board decisions and notices are available on our Web site at “WWW.STB.GOV.”

It is ordered:

1. The proposed transaction is approved and authorized, subject to the filing of opposing comments.

2. If opposing comments are timely filed, the findings made in this notice will be deemed as having been vacated.

3. This notice will be effective February 7, 2017, unless opposing comments are filed by February 6, 2017.

4. A copy of this notice will be served on: (1) The U.S. Department of Transportation, Federal Motor Carrier Safety Administration, 1200 New Jersey Avenue SE., Washington, DC 20590; (2) the U.S. Department of Justice, Antitrust Division, 10th Street & Pennsylvania Avenue NW., Washington, DC 20530; and (3) the U.S. Department of Transportation, Office of the General Counsel, 1200 New Jersey Avenue SE., Washington, DC 20590.

Decided: December 13, 2016.
By the Board, Chairman Elliott, Vice Chairman Miller, and Commissioner Begeman.
Kenyatta Clay,
Clearance Clerk.

[FR Doc. 2016-30489 Filed 12-19-16; 8:45 am]

BILLING CODE 4915-01-P